DEPARTMENT OF HEALTH AND HUMAN SERVICES

Indian Health Service

Office of Clinical and Preventive Services; Division of Nursing Services, Public Health Nursing

Announcement Type: New competitive

Funding Announcement Number: HHS-2006-IHS-NU-0001

Catalog of Federal Domestic Assistance Number(s): 93.933

Key Dates: Application deadline Date: September 15, 2006.

Review Date: September 20-22, 2006.

Award Announcement Date: September 25, 2006.

Earliest Anticipated Start Date: September 29, 2006.

1. Funding Opportunity Description

The Indian Health Service (IHS), Office of Clinical and Preventive Services, Division of Nursing Services announces competitive grant applications for Public Health Nurse (PHN) Disease Prevention and Health Promotion (DPHP). This program is authorized by the Snyder Act, 25 U.S.C. 13; Section 301(a), Public Health Service Act, as amended; and Indian Health Care Improvement Act, 25 U.S.C. 1652. This program is described at 93.933 in the Catalog of Federal Domestic Assistance.

The Public Health Nursing (PHN) Service is the prevention of illness, promotion and maintenance of health through the provision of therapeutic services, counseling, education and advocacy services. This is accomplished through assessment and identification of the individual, family and community needs, promotion of consumer participation in establishing health goals, planning programs to meet identified needs and coordination of community health programs and services. The public-health nursing program is flexible and individualized to meet needs within existing resources and takes into account prevailing economic, cultural, social, and geographic characteristics.

Tribal PHN Programs may submit applications for review. The highest scored applications will be funded for two years based on availability of funds and satisfactory progress. The content of the application should relate directly to the basic emphasis of the PHN program's scope of services as indicated by American Nursing Association PHN Standards of Care, Government Performance Results Act (GPRA) measures associated with PHN practice such as: Alcohol Screening (Fetal Alcohol Syndrome (FAS) Prevention); Domestic (Intimate Partner) Violence Screening; Breast feeding; Childhood Immunization; Adult Immunization; CVD Prevention (Cholesterol Screening); Obesity Assessment; Tobacco Use Assessment; Prenatal Human Immunodeficiency Virus (HIV) Screening; and sound program planning and evaluation principles. Proposal must include measurable health outcomes. Outline goals and anticipated results linked to outcome objectives, process objectives, and proposed activities performed in the home or community setting as demonstrated through quality data improvement of these activities.

II. Award Information

Type of Awards: Grant

Estimated Funds Available: The total amount identified for project period is $2,352,000. The total for each 12 month period is $1,176,000. The awards are for 24 months in duration and the average award is approximately $100,000. Awards under this announcement are subject to availability of funds and satisfactory performance.

Anticipated Number of Awards: 11 awards will be made under the Program.

Project Period: 24 months.

Award Amount: $100,000 per year.

III. Eligibility Information

1. Eligible Applicants must be one of the following (please specify in the application which category applies to each applicant):

A. Federally-recognized Indian Tribe,

B. Non-Profit Urban Indian Organization as defined by Urbans-25 U.S.C. 1603(f), or

C. Non-Profit Tribal organizations as defined by Indian Health Care Improvement Act (IHCIA), 25 U.S.C. 1603(e).

2. Supporting Documentation to Determine Eligibility:

A. Tribal Resolution—If the applicant is an Indian Tribe or Tribal organization, a resolution from the Tribal government of all Tribes to be served supporting the project must accompany the application submission. Applications by Tribal organizations will be require resolutions if the current Tribal resolutions under which they operate would encompass the proposed activities. In this instance a copy of the current resolution must accompany the application. The list of Tribes to be served by the project in the proposal must match the set of appended resolutions. If a resolution from an appropriate representative of each Tribe to be served is not submitted, the application will be considered incomplete and will not be considered for funding. No documents will be accepted as separate mailings to be added to proposals; all documents, Tribal resolutions, etc., must accompany the submission as one complete proposal.

B. Non-Profit applicants must submit proof of non-profit status. A current IRS tax exemption certificate or a copy of 501(c)3 form is required proof that must accompany all applications.

3. Cost Sharing or Matching

The PHN PHP does not require matching funds or cost sharing.

4. Other Requirements

Applications with budgets exceeding $100,000 dollar amount will not be considered for review.

IV. Application and Submission Information

1. Information regarding the application process may be obtained from either of the following persons:

Program Contact: Cheryl Peterson, Division of Nursing Services, Indian Health Service, 801 Thompson Ave, Suite 300, Rockville, Maryland 20852, (301) 443-1840.

Grants Contact: Martha Redhouse, Division of Grants Operations, Indian Health Service, 801 Thompson Ave, TMP Suite 360, Rockville, Maryland 20852, (301) 443-5204.

2. Content and Form of Application Submission:

Under this specific announcement, only paper applications will be accepted. Grants.gov electronic transmission do not apply to this specific announcement. Applicants must submit a paper application (original and 2 copies) to the Division of Grants Operations at 801 Thompson Avenue, TMP Suite 360, Rockville, MD 29852.

A. Standard Form 424, Application for Federal Assistance.

B. Standard Form 424A, Budget Information—Non-Construction Programs.

C. Standard Form 424B, Assurances—Non-Construction Programs (front and back). The application shall contain assurances to the Secretary that the applicant will comply with program regulations, 42 CFR part 36 Subpart H.

D. Form PHS 5161-1, Certifications Web site: http://www.psc.gov/forms/PHS/PHS-5161-1.pdf

E. Disclosure of Lobbying Activities.

F. Table of Contents with corresponding numbered pages.

G. Project Narrative (not to exceed 10 typed written pages-should address first year only if project is a multi-year request) that includes the following:

(1) Introduction and Need for Assistance.

(2) Work Plan.

(3) Project Evaluation.

(4) Organizational Capabilities and Qualifications.

(5) Categorical Budget line items and Budget Justification.

H. Pre-application or letter of intent are not required under this announcement.

Public Policy Requirements: all Federal-wide public policies apply to IHS grants with exception of Lobbying and Discrimination.

Telecommunication for the hearing impaired is available at: 301-443-6394.

3. Form of Submission, Dates and Times:

Applications must be received by September 15, 2006; 5 p.m. (EST). IHS will not acknowledge receipt of applications.

Late applications will not be considered for review.

4. Intergovernmental Review:

Executive Order 12372 requiring intergovernmental review is not applicable to this program.

5. Funding Restrictions:

A. Obtain prior approval from the Program Official to determine whether Pre-award costs are allowable.

B. The available funds are inclusive of direct and indirect costs.

C. No more than one grant will be awarded per applicant and/or per Tribe.

D. All funding for this grant will end after two years with no additional funds.

E. Delinquent Federal Debts. No award shall be made to an applicant who has an outstanding delinquent Federal debt until either:

(1) The delinquent account is paid in full; or

(2) A negotiated repayment schedule is established and at least one payment is received.

6. Other Submission Requirements

DUNS Number

Applicants are required to have a Dun and Bradstreet (DUNS) number to apply for a grant or cooperative agreement from the Federal Government. The DUNS number is a nine-digit identification number, which uniquely identifies business entities. Obtaining a DUNS number is easy and there is no charge. To obtain a DUNS number, access http://www.dnb.com/us/ or call 1-866-705-5711. Interested parties may wish to obtain their DUNS number by phone to expedite the process.

V. Application Review Information

1. Criteria

The instructions for preparing the application narrative also constitute the evaluation criteria for reviewing and scoring the application. Weights assigned to each section are noted in parentheses. The narrative should include only the first year of activities. The narrative section should be written in a manner that is clear to outside reviewers unfamiliar with prior related activities of the applicant. It should be well organized, succinct, and contain all information necessary for reviewers to understand the project fully.

a. Format—maximum of 10 pages (5 Points)

• Be single spaced.

• Be typewritten.

• Have consecutively numbered pages.

• Use black type not smaller than 12 characters per one inch.

• Contain a narrative that does not exceed 10 typed pages that includes the other submission requirements below. The 10-page narrative does not include the work plan, standard forms, Tribal resolutions (if necessary), proof of NonProfit status, table of contents, budget, budget justifications, narratives, and/or other appendix items.

b. Background/Problem Statement (10 Points)

• Clearly state health problem.

• Provide demographic information, prevalence rates of disease, and baseline health data to substantiate the proposal and need for services.

• Describe how data collection will support the stated project objectives and how it will support the project evaluation in order to determine the impact of the project. Address how the proposed project will result in health improvements.

• Name of facility, location, type of site (Direct Care, Title I, Title III).

• Contact person and phone number, address, e-mail address, fax number.

c. Goals and Objectives (25 Points)

• Establish two to three measurable objectives within a plan that will provide significant outcome. Goals/Objectives should be specific with a realistic time line.

d. Methodology/Activities (30 Points)

• Describe the activities that will be implemented in a work plan to meet the objectives. The work plan should be directly related to the objectives.

• Describe how you will monitor the objectives (chart reviews, survey, etc.)

• Describe any collaborative efforts with programs outside of PHN.

e. Budget (15 Points)

• Discuss all expected/known expenses of the prevention program for years 1 and 2.

• Provide justification of the funds requested for years 1 and 2 by the site.

• Provide a succinct description of specific roles and activities of each person involved in the proposed project and their ability to perform in that capacity.

f. Evaluation (15 Points)

Describe the methods for evaluating the project activities. Each proposed project objective should have an evaluation component and the evaluation activities should appear on the work plan. At a minimum, projects should describe plans to collect or summarizes evaluation information about all project activities. Please address the following for each of the proposed objectives:

• Describe the data that will be reviewed and what data will be collected to evaluate the success of the objective(s)?

• How the data will be collected to assess the program's objective(s) (e.g., methods used such as, but not limited to focus groups, surveys, interviews, or other data collection activities)?

• When the data will be collected and the data analysis completed?

• The extent to which there are specific data sets, data bases or registries already in place to measure/monitor meeting objective.

• Who will collect the data and any cost of the evaluation (whether internal or external)?

• Where and to whom the data will be presented?

• Address anticipated obstacles to the success of the proposal such as underlying causes and the nature of their influence on accomplishing the objectives.

• Describe how the prevention project will be evaluated.

• Describe the process that will be used to follow-up on the findings/conclusions.

When the applicant is approved for funding, the award recipient must comply with the proposal or provisions may result in withholding of support of other eligible projects.

2. Review and Selection Process

a. The review committee(s) will review each proposal according to the guideline requirements of the program announcement and undertake an indept evaluation based on the reviewer's findings, recommendations, scoring, and approval or disapproval. The final selection determination will be made by PHN Nurse Consultant.

b. All application meeting the proposal requirements will be scored.

c. The final score will be ranked by the total of the numerical scores divided by the number of reviewers scoring the application and read into the record.

d. Each reviewer will use the score sheet when evaluating proposals, a signature and date will complete the evaluation record which will be returned to the committee chairperson.

e. The review committee may provide differing scores to the chairperson for discussion, resolution, and committee consensus.

f. The review will be conducted in accordance with the IHS Objective Review Guidelines. The applications will be evaluated and rated on the basis of the evaluation criteria.

g. The Executive Summary will be used to provide advice to the program officials in making award decisions and comments to applicants.

• The review committee chairperson will incorporate an executive summary of the review, findings, recommendation, and comments of the project type, and proposal scores. Executive summary will be required at the close of announcement.

• The reviewers written evaluation will be used by the selecting official.

3. Anticipated Announcement and Award Dates

Announcement of award status: September 25, 2006.

Award Date: September 29, 2006.

VI. Award Administration Information

1. Applicants which are approved and funded will be notified through a Notice of Grant Award (NoA) initiated by the Division of Grants Operations and signed by the Grants Management Officer. The NoA will serve as the only official notification of a grant award and will state the amount of Federal funds awarded, the purpose of the grant, the effective date of the awards, the project period and the budget period. The notification of ineligibility will include information regarding the rationale for the decision of ineligibility citing specific information from the original grant application. Applicants who are approved but unfunded and disapproved applicants will receive a copy of the Executive Summary which identifies the weaknesses and strengths of the application submitted. Pre-award costs are subject to prior approval from the awarding agency.

2. Administrative and National Policy Requirements Grants are administered in accordance with the following documents:

A. This program announcement.

B. 45 CFR Part 92, “Uniform Administrative Requirements for Grants and Cooperative Agreements to State, Local, and Tribal Governments”, or 45 CFR Part 74, “Uniform Administrative Requirements for Awards and Subawards to Institutions of Higher Education, Hospitals, Other Non-Profit Organizations, and Commercial Organizations”.

C. PHS Grants Policy Statement, Revised April 1994.

D. Appropriate Cost Principles: OMB Circular A-87, “State, Local, and Indian Tribal Governments,” or OMB Circular A-122, “Non-Profit Organizations”.

E. OMB Circular A-133, “Audits of States, Local Governments, and Non-Profit Organizations”.

3. Reporting.

A. Program progress reports are required within 30 days of the completion of the semi-annual report (commencing with the award date). These reports will include a brief comparison of actual accomplishments to the goals established for the period, reasons for slippage (if applicable), and other pertinent information as required. Specific requirements for the GPRA performance measures will be identified in the terms and conditions of the award for all applicants that are identified for funding. A final report must be submitted within 90 days of expiration of the budget/project period (at the end of each year of funding).

B. Financial Status Reports must be submitted within 30 days of the semi-annual report (commencing with the award date). Final financial status reports are due within 90 days of expiration of the budget/project period (at the end of each year of funding). Standard Form 269 (long form) will be used for financial reporting.

Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the grantee organization or the individual responsible for preparation of the reports.

VII. For Program-Related Information Regarding PHN:

1. Cheryl Peterson—Office of Clinical and Preventive Services (OCPS), Division of Nursing Services, IHS, 801 Thompson Ave., Suite 329, Rockville, Maryland 20852, (301) 443-1840.

2. For general information regarding this announcement: Ms. Orie Platero, OCPS, IHS, 801 Thompson Avenue, Suite 326, Rockville, Maryland 20852, (301) 443-2522.

3. For specific grant-related and business management information: Ms. Martha Redhouse, Division of Grants Operations, IHS, 801 Thompson Avenue, TMP Suite 360, Rockville, Maryland 20852, (301) 443-5204.

VIII. Other Information

The Department of Health and Human Services (HHS) is committed to achieving the health promotion and disease prevention objectives of Healthy People 2010, a HHS led activity for setting priority areas. This project will aid the accomplishment of Healthy People 2010 Focus Area 1—Access. Specifically, it will aid the accomplishment of objective 1-15, “Increase the proportion of persons with long-term care needs who have access to the continuum of long-term care services.” Potential applicants may obtain a printed copy of Healthy People 2010 (Summary Report No., 017-001-00549-5), or CD-ROM, Stock No. 017-001-00549-5, through the Superintendent of Documents, Government Printing Office, P.O. Box 371954, Pittsburgh, PA 15250-7945, (202) 512-1800. You may also access this information at the following Web site: http://www.healthypeople.gov/Publications.

The IHS is focusing efforts on three Health Initiatives that, linked together, have the potential to achieve positive improvements in the health of American Indian and Alaska Native people. These three initiatives are Health Promotion/Disease Prevention, Management of Chronic Disease, and Behavioral Health. Further information is available at the Health Initiative Web sites at: http://www.ihs.gov/NonMedicalPrograms/DirInititives/index.cfm.

Dated: August 21, 2006.
Phyllis Eddy,
Deputy Director for Management Operations, Indian Health Service.

[FR Doc. 06-7134 Filed 8-24-06; 8:45 am]

BILLING CODE 4165-16-M